SMALL BUSINESS ASSOCIATION

National Women's Business Council; Federal Register Meeting Notice; Quarterly Public Meeting

AGENCY: National Women's Business Council, SBA.

ACTION: Notice of open Public Meeting.

SUMMARY: The SBA is issuing this notice to announce the location, date, time, and agenda for its public meeting of the National Women's Business Council. The meeting will be open to the public.

DATES: March 26, 2014 from 12:00 p.m. Eastern Time to 2:00 p.m. Eastern Time. This meeting will take place in the SBA Headquarters, Eisenhower Conference Room.

ADDRESSES: The SBA is located at 409 Third Street, SW. Please contact Taylor Barnes at 202-205-6827 or Taylor.barnes@nwbc.gov to receive more information and conference call details.

SUPPLEMENTARY INFORMATION: Pursuant to section 10(a)(2) of the Federal Advisory Committee Act (5 U.S.C., Appendix 2), SBA announces the meeting of the National Women's Business Council. The National Women's Business Council is tasked with providing policy recommendations on issues of importance to women business owners to the President, Congress, and the SBA Administrator. The purpose of the meeting is to provide updates on the NWBC's 2014 research agenda and action items for fiscal year 2014 included but not limited to procurement, access to capital, access to markets, young and high-growth women entrepreneurs. The topics to be discussed will include 2014 projects, goals and research.

FOR FURTHER INFORMATION CONTACT: The meeting is open to the public however advance notice of attendance is requested. Anyone wishing to attend must either email their interest to taylor.barnes@nwbc.gov or call at 202-205-6827 no later than March 19, 2014.

Those needing special accommodation in order to attend or participate in the meeting, please contact 202-205-6827 no later than March 19, 2014.

For more information, please visit our Web site at www.nwbc.gov.

Dated: February 18, 2014.
Diana Doukas,
SBA Committee Management Officer.

[FR Doc. 2014-03776 Filed 2-21-14; 8:45 am]

BILLING CODE P